DEPARTMENT OF ENERGY

Federal Energy Regulatory Commission

[Docket No. ER03-683-000]

California Independent System Operator Corporation; Notice of Technical Conference

April 18, 2003.

The Federal Energy Regulatory Commission Staff is convening a technical conference to facilitate discussions of and solutions for congestion management issues raised by the California Independent System Operator Corporation's (CAISO) filing of Tariff Amendment No. 50. The conference will be held in San Francisco, California, at the Marriott San Francisco, 55 Fourth Street, San Francisco, CA, on May 1, 2003, beginning at 9 a.m.

All interested persons may attend. However, attendees are asked to notify the Commission of their intent to attend by sending an email message to Cynthia Henry at cynthia.henry@ferc.gov. No telephone communication bridge will be provided at this technical conference.

Magalie R. Salas,
Secretary.

[FR Doc. 03-10205 Filed 4-23-03; 8:45 am]

BILLING CODE 6717-01-P